NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On October 1, 2010 and October 5, 2010, the National Science Foundation published notices in the Federal Register of permit applications received. Permits were issued on November 1, 2010 and November 3, 2010, respectively, to:

Robert W. Sanders | Permit No. 2011-019.
Yu-Ping Chin | Permit No. 2011-018.

Nadene G. Kennedy,
Permit Officer.

[FR Doc. 2010-28209 Filed 11-8-10; 8:45 am]

BILLING CODE 7555-01-P